DEPARTMENT OF AGRICULTURE

Animal and Plant Health Inspection Service

[Docket No. APHIS-2007-0136]

Notice of Request for Approval of an Information Collection; Agriculture Smuggling Tips and Referrals

AGENCY: Animal and Plant Health Inspection Service, USDA.

ACTION: Approval of an information collection; comment request.

SUMMARY: In accordance with the Paperwork Reduction Act of 1995, this notice announces the Animal and Plant Health Inspection Service's intention to request approval of an information collection activity that will assist the Agency in preventing the unlawful entry and distribution of agricultural products that may harbor harmful animal or plant pests or diseases or noxious weeds.

DATES: We will consider all comments that we receive on or before February 19, 2008.

ADDRESSES: You may submit comments by either of the following methods:

• Federal eRulemaking Portal: Go to http://www.regulations.gov, select “Animal and Plant Health Inspection Service” from the agency drop-down menu, then click “Submit.” In the Docket ID column, select APHIS-2007-0136 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2007-0136, Regulatory Analysis and Development, PPD, APHIS, Station 3A-03.8, 4700 River Road Unit 118, Riverdale, MD 20737-1238. Please state that your comment refers to Docket No. APHIS-2007-0136.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Smuggling Interdiction and Trade Compliance program, contact Mr. Scott Sanner, National Coordinator, Smuggling Interdiction and Trade Compliance PPQ, APHIS, Venture II, 920 Main Campus Drive, Suite 200, Raleigh, NC 27606; (919) 855-7338. For copies of more detailed information on the information collection, contact Mrs. Celeste Sickles, APHIS' Information Collection Coordinator, at (301) 734-7477.

SUPPLEMENTARY INFORMATION: Title: Agriculture Smuggling Tips and Referrals (PPQ Form 300).

OMB Number: 0579-xxxx.

Type of Request: Approval of an information collection.

Abstract: Under the Plant Protection Act (7 U.S.C. 7701 et seq.) and the Animal Health Protection Act (7 U.S.C. 8301 et seq.), the Secretary of Agriculture may prohibit or restrict the importation, entry, exportation, or movement in interstate commerce of any animal, plant, animal or plant product, biological control organism, noxious weed, means of conveyance, or other article if the Secretary determines that the prohibition or restriction is necessary to prevent a plant pest or noxious weed, or any pest or disease of livestock, from being introduced into or disseminated within the United States. This authority has been delegated to the Animal and Plant Health Inspection Service (APHIS), which conducts activities to implement these Acts, including issuing and enforcing regulations.

APHIS' Smuggling, Interdiction, and Trade Compliance (SITC) unit, part of the Plant Protection and Quarantine program, is involved in efforts to prevent the unlawful importation, entry, and distribution of prohibited agricultural commodities and products that may harbor harmful plant or animal pests or diseases or noxious weeds. SITC's activities include following up on tips and referrals from the public concerning possible smuggling activities. When SITC officers have evidence of a violation of the regulations, they turn the information over to APHIS' Investigative and Enforcement Services unit.

A toll-free telephone “hotline” is currently available to members of the public who wish to report suspicious activity to SITC. However, this hotline is not staffed full-time, and callers are sometimes difficult to understand or do not include enough information for SITC to follow up on the tip. Therefore, SITC has developed a form that will be made available on the APHIS Web site, as an alternative to the telephone hotline. The form requests specific information regarding the suspicious activity and may be submitted anonymously either by e-mail or by postal mail.

We are asking the Office of Management and Budget (OMB) to approve our use of this information collection activity for 3 years.

The purpose of this notice is to solicit comments from the public (as well as affected agencies) concerning this information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of Burden: The public reporting burden for this collection of information is estimated to average 0.1 hours per response.

Respondents: Anyone (public/industry) who anonymously reports suspicious smuggling activities.

Estimated Annual Number of Respondents: 300.

Estimated Annual Number of Responses per Respondent: 1.

Estimated Annual Number of Responses: 300.

Estimated Total Annual Burden on Respondents: 30 hours. (Due to averaging, the total annual burden hours may not equal the product of the annual number of responses multiplied by the reporting burden per response.)

All responses to this notice will be summarized and included in the request for OMB approval. All comments will also become a matter of public record.

Done in Washington, DC, this 12th day of December 2007.
Kevin Shea,
Acting Administrator, Animal and Plant Health Inspection Service.

[FR Doc. E7-24459 Filed 12-17-07; 8:45 am]

BILLING CODE 3410-34-P